DEPARTMENT OF AGRICULTURE

Agricultural Marketing Service

7 CFR Part 80

[Doc. No. FV-01-80-01]

RIN 0581-AC07

Regulations Governing the Fresh Russet Potato Diversion Program, 2000 Crop

AGENCY: Agricultural Marketing Service, USDA.

ACTION: Final rule.

SUMMARY: This document finalizes procedures setting forth the terms of the Fresh Russet Potato Diversion Program for the 2000 crop. A proposed rule was published April 13, 2001.

EFFECTIVE DATE: November 23, 2001.

FOR FURTHER INFORMATION CONTACT: Susan Proden, Branch Chief, Room 2546—South Building, USDA or call (202) 720-4517. Information may also be obtained at the website: http://www.ams.usda.gov/fv/fvcomm.htm

SUPPLEMENTARY INFORMATION:

Executive Order 12866

This rule has been determined to be not significant for purposes of Executive Order 12866. Therefore, it has not been reviewed by the Office of Management and Budget (OMB).

Executive Order 12988

This rule has been reviewed under Executive Order 12988, Civil Justice Reform. The rule is intended to have preemptive effect with respect to any State or local laws, regulations or policies which conflict with its provisions, or which would otherwise impede its full implementation. Prior to any judicial challenge to the provisions of this rule or the application of its provisions, all applicable administrative procedures must be exhausted.

Paperwork Reduction Act

Information collection requirements required by this rule are not required before the regulations may be effective. However, the 30-day public comment period and OMB approval under the provisions of 44 U.S.C. Chapter 35 are still required after the rule is published, and the Information Collection Package and request for approval will be submitted to OMB.

Regulatory Flexibility Act

Pursuant to requirements set forth in the Regulatory Flexibility Act (RFA), the Agricultural Marketing Service(AMS) has determined that this action will not have a significant economic impact on a substantial number of small entities. The purpose of the RFA is to fit regulatory actions to the scale of business subject to such actions in order that small businesses will not be unduly or disproportionally burdened. The Small Business Administration (13 CFR 121.1) has defined small agricultural producers as those having annual gross revenue for the last three years of less than $500,000 and small agricultural service firms are defined as those, whose gross annual receipts are less than $5,000,000.

Because there is a preponderance of entities shipping fresh Russet potatoes that meet these gross revenue limitations it is anticipated that the majority of the program participants could be classified as small entities without substantial regulatory restriction. Therefore, the provisions of the RFA are not applicable and no Regulatory Flexibility analysis is required.

Executive Order 12372

This program is not subject to the provisions of Executive Order 12372, which requires intergovernmental consultation with state and local officials. See the Notice related to 7 CFR part 3015, subpart V published at 48 FR 29115 (June 24, 1983).

Executive Order 12612

It has been determined that this rule does not have sufficient federalism implications to warrant the preparation of a Federalism Assessment. The provisions contained in this rule will not have a substantial direct, effect on States or their political subdivisions or on the distribution of power and responsibilities among the various levels of government.

Background

On April 13, 2001 (66 FR 19099), a proposed rule was published to provide for a Potato Diversion Program for 2000 crop Fresh Russet Potatoes. The program was developed because of market conditions existing at that time. Authority for the program is contained in Section 32 of the Act of August 24, 1935, is amended (7 U.S.C. 612c) clause “(2)” of that section allows for diversion and clause “(3)” provides for payments to help farmers. Both apply. Because of crop-driven deadlines, disposition and application deadlines were set for time periods that have now expired. Several commentors asked for an extended comment period and such an extension was published on May 16, 2001 (66 FR 27405). Other commentors asked for higher payments. Because of the applications received, the program's authorization was increased to $12 million. Other commentors suggested that other varieties of potatoes be covered, that a particular diversion be authorized to a particular charitable organization, and that dehydrated potatoes be diverted. These comments were not adopted because of the particular market conditions that drove the development of the program and because the agency sought to avoid unduly limiting farmer flexibility in light of the statutory purposes at issue. Sections 80.3 through 80.16 have been removed because the deadlines for application and disposition have passed.

List of Subjects in 7 CFR Part 80

Administrative practice and procedures, Agriculture, Agricultural commodities, Reporting and recordkeeping requirements.

For the reasons set forth in the preamble, Title 7 chapter I is amended by revising part 80 to read as follows:

PART 80—FRESH RUSSET POTATO DIVERSION PROGRAM

Subpart A—Fresh Russet Potato Diversion Program

Sec.
80.1 Applicability and payments.
80.2 Administration and disputes.

Authority: 7 U.S.C. 612c.

Subpart A—Fresh Russet Potato Diversion Program

§ 80.1 Applicability and payments.

Payment be received or retained with respect to diversions of 2001 Fresh Russet potatoes as allowed by the Administrator of the Agricultural Marketing Service (AMS), of the Department of Agriculture (USDA) using standards set out for consideration in the relevant Federal Register notice published on April 13, 2001 (66 FR 19099) except that total funding for the program may be an amount up to $12 million. If a person has or will receive such a payment and there is a failure to comply with the conditions for payment or any condition for payment set out in the application, or that otherwise applies, all sums received by a person shall be returned with interest. No other claims for payment by producers or other persons under this part based upon their diversion of potatoes, shall be allowed except as approved by the Administrator of the Agricultural Marketing Service (AMS), of the Department of Agriculture (USDA). In all cases, the Administrator may set such other conditions for payment as may be allowable and serve the accomplishment of the goals of the program.

§ 80.2 Administration and disputes.

Administration of this part shall be under the supervision of the Deputy Administrator, Fruit and Vegetable Programs, AMS, and implemented for AMS through the Farm Service Agency (FSA) of USDA. Disputes shall be resolved by FSA by using regulations found in 7 CFR part 780.

Subpart B—[Reserved]

Dated: November 15, 2001.
A. J. Yates,
Administrator, Agricultural Marketing Service.

[FR Doc. 01-29110 Filed 11-20-01; 8:45 am]

BILLING CODE 3410-02-P